ENVIRONMENTAL PROTECTION AGENCY

[EPA-HQ-OW-2008-0150; FRL-9983-56-OW]

Proposed Information Collection Request; Comment Request; Establishing No-Discharge Zones (NDZs) Under Clean Water Act Section 312 (Renewal)

AGENCY: Environmental Protection Agency (EPA).

ACTION: Notice.

SUMMARY: The Environmental Protection Agency plans to submit an information collection request (ICR), “Establishing No-Discharge Zones (NDZs) Under Clean Water Act section 312 (Renewal)” (EPA ICR No. 1791.08, OMB Control No. 2040-0187) to the Office of Management and Budget (OMB) for review and approval in accordance with the Paperwork Reduction Act (PRA). Before doing so, the EPA solicits public comments on specific aspects of the proposed information collection as described below. This is a proposed extension of the ICR, which is currently approved through March 31, 2019. An Agency may not conduct or sponsor, and a person is not required to respond to a collection of information unless it displays a currently valid OMB control number.

DATES: Comments must be submitted on or before November 13, 2018.

ADDRESSES: Submit your comments, referencing Docket ID No. EPA-HQ-OW-2008-0150, online using www.regulations.gov (our preferred method), by email to OW-Docket@epa.gov, or by mail to: EPA Docket Center, Environmental Protection Agency, Mail Code 28221T, 1200 Pennsylvania Ave. NW, Washington, DC 20460.

All comments received will be included in the public docket without change including any personal information provided, unless the comment includes profanity, threats, information claimed to be Confidential Business Information, or other information whose disclosure is restricted by statute.

FOR FURTHER INFORMATION CONTACT: Virginia Fox-Norse, Oceans, Wetlands and Communities Division, Office of Wetlands, Oceans and Watersheds, (4504T), Environmental Protection Agency, 1200 Pennsylvania Ave. NW, Washington, DC 20460; telephone number: 202-566-1266; fax number: 202-566-1337; email address: fox-norse.virginia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA solicits comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and, (iv) minimize the burden of the collection of information on those who are to respond, including through the use of appropriate automated electronic, mechanical, or other technological collection techniques or other forms of information technology (e.g., permitting electronic submission of responses). The EPA will consider the comments received and amend the ICR as appropriate. The final ICR package will then be submitted to OMB for review and approval. At that time, the EPA will issue another Federal Register notice to announce the submission of the ICR to OMB and the opportunity to submit additional comments to OMB.

Abstract: (A) Sewage No-Discharge Zones: CWA section 312(f) and the implementing regulations in 40 CFR part 140 provide that information must be submitted to the EPA to establish a no-discharge zone (NDZ) for vessel sewage in state waters. No-discharge zones can be established to provide greater environmental protection of specified state waters from treated and untreated vessel sewage. This ICR addresses the information requirements associated with the establishment of NDZs for vessel sewage. The information collection activities discussed in this ICR do not require the submission of any confidential information.

(B) Uniform National Discharge Standards (UNDS) No-Discharge Zones and Discharge Determination or Standard Review: CWA section 312(n)(7) and the implementing regulations in 40 CFR part 1700 provide that information should be submitted to the EPA to establish a no-discharge zone in state waters for a particular discharge from a vessel of the Armed Forces. In addition, CWA section 312(n)(5) provides that that the Governor of any state may petition the EPA and the DoD to review any discharge determination or standard promulgated under CWA section 312 for vessels of the Armed forces if there is significant new information that could reasonably result in a change to the discharge determination or standard. This ICR addresses the information requirements associated with the establishment of an UNDS NDZ for a particular discharge from a vessel of the Armed Forces in addition to the information requirements associated with a request to the EPA and DoD to review a discharge determination or standard. UNDS NDZs for a particular discharge from a vessel of the Armed Forces cannot be requested or established until after the EPA and DoD promulgate vessel discharge performance standards for marine pollution control devices for that particular discharge and DoD promulgates the corresponding regulations governing the design, construction, installation and use of marine pollution control devices for that particular discharge. The information collection activities discussed in this ICR do not require the submission of any confidential information.

Form numbers: None.

Respondents/affected entities: States.

Respondent's obligation to respond: The responses to this collection of information are required to obtain the benefit of a sewage NDZ (CWA section 312(f)). The responses to this collection of information are required to obtain the benefit of an UNDS NDZ or a review of an UNDS discharge determination or standard (CWA section 312(n)).

Estimated number of respondents: 16 (total).

Frequency of response: One time.

Total estimated burden: 1,083 hours (per year). Burden is defined at 5 CFR 1320.03(b).

Total estimated cost: $54,938 (per year), includes $998 annualized capital or operation & maintenance costs.

Changes in estimates: It is anticipated that the burden hours will stay the same as the current estimate or decrease due to changes in respondent universe when we revise them for this ICR extension. Cost estimates will likely remain the same or rise at the time of revision because of changes in the state and federal labor costs.

Dated: August 31, 2018.
John Goodin,
Acting Director, Office of Wetlands, Oceans and Watersheds.

[FR Doc. 2018-19763 Filed 9-10-18; 8:45 am]

BILLING CODE 6560-50-P